GENERAL SERVICES ADMINISTRATION

41 CFR Parts 300-3, 301-2, 301-10, 301-11, 301-52, 301-70 and 301-71

[FTR Amendment 2012-01; FTR Case 2011-301; Docket 2011-0018, Sequence 1]

RIN 3090-AJ11

Federal Travel Regulation; Per Diem, Miscellaneous Amendments

AGENCY: Office of Government-wide Policy, General Services Administration (GSA).

ACTION: Final rule.

SUMMARY: GSA has adopted as final, an interim rule amending the Federal Travel Regulation (FTR) by changing, updating, and clarifying various provisions regarding temporary duty (TDY) travel. These changes include adjusting the definition of incidental expenses; clarifying necessary deduction amounts from the meals and incidental expense (M&IE) reimbursement on travel days; extending agencies the authority to issue blanket actual expense approval for TDY travel during Presidentially-Declared Disasters; and updating other miscellaneous provisions.

DATES: Effective Date: October 22, 2012.

FOR FURTHER INFORMATION CONTACT: The Regulatory Secretariat (MVCB), 1275 First Street NE., Washington, DC 20417, (202) 501-4755, for information pertaining to status or publication schedules. For clarification of content, contact Mr. Cy Greenidge, Program Analyst, Office of Government-wide Policy, at (202) 219-2349. Please cite FTR Amendment 2011-03; FTR Case 2011-301.

SUPPLEMENTARY INFORMATION:

A. Background

GSA reviewed the FTR for accuracy and currency and is consequently publishing this amendment to update certain sections in Chapters 300 and 301 that pertain to definitions, web addresses, meal deductions, miscellaneous expenses, and other travel-related clarifications and updates. This amendment also adds a section that permits agencies to issue blanket actual expense authorizations for any employee who performs TDY travel in an area subject to a Presidentially-Declared Disaster.

Accordingly, this final rule amends the FTR by:

1. Section 300-3.1—Revising the term “Incidental expenses” under the definition for “Per diem allowance.” These changes permit reimbursement of fees and tips, exclude mailing costs associated with filing travel vouchers and charge card bill payments, and remove the current transportation reimbursement as this expense is reimbursable via separate provisions in FTR part 301-10.

2. Section 301-2.5—Referencing the new blanket actual expense authorization pursuant to 301-70.201.

3. Section 301-10.421—Updating the heading to include valet parking attendants.

4. Section 301-11.6—Updating regulatory references and web address information in the table pertaining to maximum per diem rates and actual expense rates.

5. Section 301-11.7—Changing the term “lodging location” to “lodging facility” in determining maximum per diem reimbursement rates.

6. Section 301-11.18—Indicating that for Government-provided meals on travel days, the entire allocated meal amount must be deducted from the decreased 75 percent rate.

7. Section 301-11.26—Revising to focus on how to request a review of a location's per diem rate.

8. Section 301-11.29—Updating the web address for state tax exemption information.

9. Section 301-11.30—Referencing the new blanket actual expense authorization pursuant to 301-70.201.

10. Section 301-11.300—Revising “natural disasters” to read “natural or manmade disasters” and adding Presidentially-Declared Disasters to the list of special events warranting actual expense reimbursement.

11. Section 301-11.301—Referencing the new blanket actual expense authorization pursuant to 301-70.201.

12. Section 301-11.302—Referencing the new blanket actual expense authorization pursuant to 301-70.201.

13. Section 301-52.4—Removing the reference to a “fixed reduced per diem allowance.”

14. Section 301-70.200—Referencing the new blanket actual expense authorization pursuant to 301-70.201.

15. Section 301-70.201—Adding a new section which gives agencies the authority to issue a blanket authorization for actual expense reimbursement in the event of a Presidentially-Declared Disaster.

16. Section 301-71.105—Referencing the new blanket actual expense authorization pursuant to 301-70.201.

B. Summary of Comments Received

GSA received no comments on the interim rule published in the Federal Register on September 7, 2011 (76 FR 55273).

C. Executive Order 12866 and Executive Order 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

D. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553 (a)(2) because it applies to agency management. However, this final rule is being published to provide transparency in the promulgation of Federal policies.

E. Paperwork Reduction Act

The Paperwork Reduction Act does not apply because the changes to the FTR do not impose recordkeeping or information collection requirements, or the collection of information from offerors, contractors, or members of the public that require the approval of the Office of Management and Budget (OMB) under 44 U.S.C. 3501, et seq.

F. Small Business Regulatory Enforcement Fairness Act

This final rule is also exempt from Congressional review prescribed under 5 U.S.C. 801 since it relates solely to agency management and personnel.

List of Subjects in 41 CFR Parts 300-3, 301-2, 301-10, 301-11, 301-52, 301-70 and 301-71

Government employees, Travel and per diem expenses, Administrative practices and procedures.

Dated: July 5, 2012.
Dan Tangherlini,
Acting Administrator of General Services.

Interim Rule Adopted as Final Without Changes

Accordingly, the interim rule amending 41 CFR Parts 300-3, 301-2, 301-10, 301-11, 301-52, 301-70, and 301-71, which was published in the Federal Register at 76 FR 55273 on September 7, 2011, is adopted as a final rule with no changes.

[FR Doc. 2012-25945 Filed 10-19-12; 8:45 am]

BILLING CODE 6820-14-P